FEDERAL DEPOSIT INSURANCE CORPORATION

[OMB No. 3064-0001 and -0092]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0001 and -0092). The notices of proposed renewal for these information collections were previously published in the Federal Register on July 30, 2025, and August 11, 2025, respectively, allowing for a 60-day comment period. No comments were received in response to the 60-day Federal Register notices.

DATES: Comments must be submitted on or before December 1, 2025.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Attorney, MB-3013, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these information collections by selecting “Currently under 30-day Review—Open for Public Comments” or by using the search function.

FOR FURTHER INFORMATION CONTACT: Robert Meiers, Regulatory Attorney, Romeiers@fdic.gov, MB-3013, Federal Deposit Insurance Corporation, 550 17th Street NW, Washington, DC 20429.

SUPPLEMENTARY INFORMATION: Proposal to renew the following currently approved collection of information:

1. Title: Interagency Charter and Federal Deposit Insurance Application.

OMB Number: 3064-0001.

Form Number: 6200-05.

Affected Public: Banks or savings associations wishing to become FDIC-insured depository institutions.

Burden Estimate:

Summary of Estimated Annual Burden (OMB No. 3064-0001)
Information Collection (IC) (obligation to respond) | Type of burden (frequency of response) | Number of respondents | Number of responses per respondent | Average time per response (HH:MM) | Annual burden (hours)
1. Interagency Charter and Federal Deposit Insurance Application, Form 6200-05 (Mandatory) | Reporting (On Occasion) | 21 | 1 | 125:00 | 2,625
Total Annual Burden (Hours) |  |  |  |  | 2,625
Source: FDIC.

General Description of Collection: The Federal Deposit Insurance Act requires financial institutions to apply to the FDIC to obtain deposit insurance. This collection provides FDIC with the information needed to evaluate the applications. There is no change in the method or substance of the collection. The increase in burden hours is the result of economic fluctuation. In particular, the number of respondents has increased while the hours per response and frequency of responses have remained the same.

2. Title: Community Reinvestment Act.

OMB Number: 3064-0092.

Form Number: None.

Affected Public: Insured State non-member banks and State savings associations.

Burden Estimate:

Summary of Estimated Annual Burden (OMB No. 3064-0092)
Information Collection (IC) (obligation to respond) | Type of burden (frequency of response) | Number of respondents | Number of responses per respondent | Average time per response (HH:MM) | Annual burden (hours)
1. Request for Designation as a Wholesale or Limited Purpose Bank (Required to Obtain or Retain Benefits) | Reporting (Annual) | 1 | 1 | 04:00 | 4
2. Strategic Plan (Voluntary) | Reporting (Annual) | 10 | 1 | 400:00 | 4,000
3. Small Business/Small Farm Loan Data (Mandatory) | Reporting (Annual) | 356 | 1 | 08:00 | 2,848
4. Community Development Loan Data (Mandatory) | Reporting (Annual) | 356 | 1 | 13:00 | 4,628
5. Home Mortgage Loans (Mandatory) | Reporting (Annual) | 310 | 1 | 253:00 | 78,430
6. Data on Affiliate Lending (Required to Obtain or Retain Benefits) | Reporting (Annual) | 304 | 1 | 38:00 | 11,552
7. Data on Lending by a Consortium or Third Party (Required to Obtain or Retain Benefits) | Reporting (Annual) | 115 | 1 | 17:00 | 1,955
8. Assessment Area Data (Mandatory) | Reporting (Annual) | 313 | 1 | 02:00 | 626
9. Small Business/Small Farm Loan Register (Mandatory) | Recordkeeping (Annual) | 356 | 1 | 219:00 | 77,964
10. Optional Consumer Loan Data (Voluntary) | Recordkeeping (Annual) | 10 | 1 | 326:00 | 3,260
11. Other Loan Data (Voluntary) | Recordkeeping (Annual) | 56 | 1 | 25:00 | 1,400
12. Content and Availability of Public File (Mandatory) | Third Party Disclosure (Annual) | 2,854 | 1 | 10:00 | 28,540
Total Annual Burden (Hours) |  |  |  |  | 215,207
Source: FDIC.

General Description of Collection: The Community Reinvestment Act regulation requires the FDIC to assess the record of banks and thrifts in helping meet the credit needs of their entire communities, including low- and moderate-income neighborhoods, consistent with safe and sound operations; and to take this record into account in evaluating applications for mergers, branches, and certain other corporate activities. The total estimated annual burden is 215,207 hours, which is a reduction of 16,375 hours from the 2022 submission. This reduction is due to the decrease in the number of FDIC-supervised banks and the changes in methodology for ICs 5, 8, and 11 that resulted in decreased respondent counts for each of ICs 5, 8, and 11.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on October 27, 2025.
Jennifer M. Jones,
Deputy Executive Secretary.

[FR Doc. 2025-19701 Filed 10-29-25; 8:45 am]

BILLING CODE 6714-01-P